SECURITIES AND EXCHANGE COMMISSION

17 CFR Part 232

[Release Nos. 33-11378; 34-103258; 39-2561; IC-35636]

Adoption of Updated EDGAR Filer Manual

AGENCY: Securities and Exchange Commission.

ACTION: Final rule.

SUMMARY: The Securities and Exchange Commission (“Commission”) is adopting amendments to Volume II of the Electronic Data Gathering, Analysis, and Retrieval system Filer Manual (“EDGAR Filer Manual” or “Filer Manual”) and related rules and forms. Certain updates reflect and identify changes to EDGAR made in connection with EDGAR Release 25.2. Additional updates reflect and identify changes to EDGAR made in connection with the Commission's September 27, 2024 EDGAR Filer Access and Account Management rulemaking (“EDGAR Next”).

DATES:

Effective date: This rule is effective July 1, 2025, except instruction 3, which is effective September 15, 2025.

Incorporation by reference: The incorporation by reference of a certain publication listed in this final rule is approved by the Director of the Federal Register as of July 1, 2025. The incorporation by reference of a certain other publication listed in this final rule is approved by the Director of the Federal Register as of September 15, 2025.

FOR FURTHER INFORMATION CONTACT: For questions regarding the amendments to Volume II of the Filer Manual, please contact Rosemary Filou, Deputy Director and Chief Counsel, Laurita Finch, Senior Special Counsel, or Dan Chang, Senior Special Counsel, in the EDGAR Business Office at (202) 551-3900. For questions regarding Open-end Fund Liquidity Risk Management Amendments and Guidance, please contact Heather Fernandez (202) 551-6708 or Gregory Jaffray (202) 551-6717 in the Division of Investment Management. For questions regarding filers' transition to access EDGAR Next, please contact Filer Support in the EDGAR Business Office at (202) 551-8900 and select option “2.”

SUPPLEMENTARY INFORMATION: We are adopting updated versions of the Filer Manual, Volume II: “EDGAR Filing,” Version 75 (June 2025) and Version 76 (effective September 15, 2025) and amendments to 17 CFR 232.301, Rule 301 of Regulation S-T. We are adopting Version 76 (effective September 15, 2025) at this time as a courtesy providing filers an approximate 90-day preview of significant EDGAR Next related updates in advance of the September 15, 2025 compliance date. These versions of the updated Filer Manual are incorporated by reference into the Code of Federal Regulations as indicated above.

I. Background

The Filer Manual contains information needed for filers to make submissions on EDGAR. Filers must comply with the applicable provisions of the Filer Manual in order to assure the timely acceptance and processing of filings made in electronic format.¹ Filers must consult the Filer Manual in conjunction with our rules governing mandated electronic filings when preparing documents for electronic submission.

¹ See Rule 301 of Regulation S-T.

II. Recommended Revisions to Volume II of the Filer Manual

EDGAR will be updated in EDGAR Release 25.2 to reflect changes related to the Form N-CEN schema and online application, several errata adjustments, and removal of outdated general technical language. The Commission is approving corresponding amendments to Volume II of the Filer Manual to reflect these changes, which will be published as Version 75 of Volume II.

EDGAR will also be updated on September 15, 2025, to fully implement the Commission's EDGAR Next rulemaking,² compliance with which is required September 15, 2025. These changes to the Filer Manual will be published as Version 76 of Volume II and effective on the EDGAR Next compliance date, September 15, 2025.

² See EDGAR Filer Access and Account Management, Release No. 33-11313 (Sept. 27, 2024) [89 FR 106108 (Dec. 27, 2024)].

A. Version 75 of Filer Manual Volume II: Amendments Related to Form N-CEN, Removal of Submission Types N-PX and N-PX/A From EDGARLink Online, and Certain Errata Changes

Form N-CEN Schema and Online Application Adjustments

In August 2024, the Commission adopted reporting amendments and provided guidance related to open-end fund liquidity risk management program requirements on Form N-PORT and Form N-CEN.³ EDGAR will be updated in Release 25.2 to support changes to the schema for Form N-CEN and the online application to permit filers to comply with the following new requirements:

³ See Form N-PORT and Form N-CEN Reporting; Guidance on Open-End Fund Liquidity Risk Management Program, Release No. IC-35308 (Aug. 28, 2024) [89 FR 73764 (Sept. 11, 2024)].

• Addition of new Item C.22 Liquidity Classification Services.

• Addition of new RSSD ID and other identifying number fields throughout the Form. Previously, certain LEI fields on the Form permitted filers to report either an LEI, RSSD ID, or, in some cases, other identifying number in the same field. This release separates LEI, RSSD ID, and other identifying number into different fields.

• The specific items that will be modified are: B.16.a.iv, B.17.c, C.5.b.ii, C.6.c.ii, C.6.c.v.2, C.6.d.ii, C.9.a.iv, C.9.b.iv, C.9.c.iv, C.9.d.iv, C.10.a.iii, C.11.a.ii, C.12.a.ii, C.13.a.ii, C.14.a.ii, C.15.d, C.16.a.iv, C.17.a.iv, D.12.a.iv, D.12.b.iv, D.12.c.iv, D.12.d.iv, D.13.a.iii, D.14.a.ii, E.2.d, F.1.c, F.2.a.ii, and F.4.c.

Moreover, EDGAR will not enforce field length validations for the LEI field at this time to enable filers to continue to upload and submit submissions according to their current process without generating an error message.

Beginning November 17, 2025, however, filers will be expected to report the appropriate identifier in the appropriate field and EDGAR will enforce specific validations for each of these fields when an entry is provided. LEI will require a 20-character alphanumeric response or “N/A.” RSSD ID will require a numerical response of up to 10 digits or “N/A.” Other identifying numbers will be limited to 100 characters, but also will require the filer to provide a description of up to 500 characters. Submissions with entries that do not meet these criteria will not be accepted.

Removal of Submission Types N-PX and N-PX/A From EDGARLink Online

The EDGARLink Online interface will remove inoperable links to the following submission types: N-PX and N-PX/A. Since July 1, 2024, filers have been required to make these submissions in a structured format created by either using the online version available on the EDGAR Filing website, or constructed by filers according to the “EDGAR Form N-PX XML Technical Specification” document. Select references to Form N-PX and its variants will be removed from the Filer Manual, Volume II, Chapter 7 (Preparing and Transmitting EDGARLink Online Submissions).

Errata Changes

The location of payment instructions on SEC.gov has changed. Filers may obtain the FEDWIRE Instructions under the “Filing Fee Registrants” section of the “Payment Options” web page on SEC.gov at https://www.sec.gov/about/payment-options. Submission form type N-CR and N-CR/A must be removed from the list of submission form types that may be filed through EDGAR Link Online; that form type should now be filed through the EDGAR Filing website.

To correct a typographical error in Volume II, Chapter 3, Index to Forms and Submission Types, the SBSE Dispute Notice should be revised to read SBS Dispute Notice (removing the “E”).

To correct a typographical error in Volume II, Chapter 6, Interactive Data, Table 6-18, the entry point required for spac-proj should be revised to read spac-despac.

To increase clarity for filers, we are also updating the instructions in Volume II, Chapter 8, Preparing and Transmitting Online Submissions, regarding how to prepare and submit online submissions for Schedule 13D and Schedule 13G to reflect language that currently appears in the online instructions to those schedules.

Certain web page titles were corrected to conform to the recent revisions to the SEC.gov website.

Removal of Outdated Technical Language

Volume II of the Filer Manual contains several outdated generic references, explaining for example the nature of the internet and other basic issues that were novel in the time period that the Filer Manual was initially adopted. The Commission has completely revised Volume I to streamline it and remove such references. The Commission now seeks to remove such antiquated language from Volume II. For example, we are removing sentences such as: “The SEC accepts electronic submissions through the internet,” “The EDGAR system is comprised of a number of large computers that receive filings submitted by entities,” “Many people have become familiar with HTML since they have used the internet,” and “Browsers have very similar navigation functions. . . .”

B. Version 76 of Filer Manual Volume II: EDGAR Next

On September 27, 2024, the Commission adopted the EDGAR Next rule and form amendments related to EDGAR filer access and account management.⁴ As part of the EDGAR Next rulemaking, the Commission approved changes to Volume I of the Filer Manual to be effective March 24, 2025, and indicated that it expected to adopt changes to Volume II of the Filer Manual at a future date. Changes to Volume II were not adopted at that time because it was expected that Volume II would subsequently be amended related to other Commission rulemaking in upcoming quarterly releases.

⁴ See footnote 2.

The Commission is now adopting changes to Volume II in Version 76 to accord with the changes to be made to EDGAR to fully implement the EDGAR Next rulemaking on the compliance date of September 15, 2025. Changes to Volume II of the Filer Manual in Version 76 relate primarily to the changed process for accessing EDGAR adopted in EDGAR Next. As of September 15, 2025, presentation of individual account credentials and completion of multifactor authentication, rather than provision of legacy access codes, will be required to access all EDGAR websites. Version 76 of Volume II of the Filer Manual will be effective September 15, 2025, the compliance date for the EDGAR Next rulemaking.

III. Amendments to Rule 301 of Regulation S-T

Along with the adoption of the updated Filer Manual, we are amending Rule 301 of Regulation S-T to provide for the incorporation by reference into the Code of Federal Regulations Volume II, Versions 75 and 76. This incorporation by reference is approved by the Director of the Federal Register in accordance with 5 U.S.C. 552(a) and 1 CFR part 51.

The updated EDGAR Filer Manual is available at https://www.sec.gov/edgar/filerinformation/current-edgar-filer-manual.

IV. Administrative Law Matters

Because the Filer Manual and rule amendments relate solely to agency procedures or practice and do not substantially alter the rights and obligations of non-agency parties, publication for notice and comment is not required under the Administrative Procedure Act (“APA”).⁵ It follows that the amendments do not require analysis under requirements of the Regulatory Flexibility Act ⁶ or a report to Congress under the Small Business Regulatory Enforcement Fairness Act of 1996.⁷

⁵ 5 U.S.C. 553(b)(A).

⁶ 5 U.S.C. 601 through 612.

⁷ 5 U.S.C. 804(3)(c).

The Office of Management and Budget has determined that this action is not a significant regulatory action as defined in Executive Order 12866, as amended, and therefore it was not subject to Executive Order 12866 review.

The effective date for the updated Filer Manual, Volume II, Version 75 and related rule amendments is July 1, 2025. The effective date for the updated Filer Manual, Volume II, Version 76 and related rule amendments is September 15, 2025. In accordance with the APA,⁸ we find that there is good cause to establish an effective date less than 30 days after publication of these rules. The Commission believes that establishing an effective date less than 30 days after publication of these rules is necessary to coordinate the effectiveness of the updated Filer Manual with the related system upgrades.

⁸ 5 U.S.C. 553(d)(3).

V. Statutory Basis

We are adopting the amendments to Regulation S-T under the authority in sections 6, 7, 8, 10, and 19(a) of the Securities Act of 1933,⁹ sections 3, 12, 13, 14, 15, 15B, 23, and 35A of the Securities Exchange Act of 1934,¹⁰ section 319 of the Trust Indenture Act of 1939,¹¹ and sections 8, 30, 31, and 38 of the Investment Company Act of 1940.¹²

⁹ 15 U.S.C. 77f, 77g, 77h, 77j, and 77s(a).

¹⁰ 15 U.S.C. 78c, 78l, 78m, 78n, 78o, 78o-4, 78w, and 78ll.

¹¹ 15 U.S.C. 77sss.

¹² 15 U.S.C. 80a-8, 80a-29, 80a-30, and 80a-37.

List of Subjects in 17 CFR Part 232

Incorporation by reference, Reporting and recordkeeping requirements, Securities.

Text of the Amendments

In accordance with the foregoing, title 17, chapter II of the Code of Federal Regulations is amended as follows:

PART 232—REGULATION S-T—GENERAL RULES AND REGULATIONS FOR ELECTRONIC FILINGS

1. The general authority citation for part 232 continues to read as follows:

Authority: 15 U.S.C. 77c, 77f, 77g, 77h, 77j, 77s(a), 77z-3, 77sss(a), 78c(b), 78l, 78m, 78n, 78n-1,78o(d), 78w(a), 78ll, 80a-6(c), 80a-8, 80a-29, 80a-30, 80a-37, 7201 et seq.; and 18 U.S.C. 1350, unless otherwise noted.

* * * * *

2. Section 232.301 is revised to read as follows:

§ 232.301 EDGAR Filer Manual.

Filers must prepare electronic filings in the manner prescribed by the EDGAR Filer Manual, promulgated by the Commission, which sets forth the technical formatting requirements for electronic submissions. The requirements for becoming an EDGAR Filer and updating company data are set forth in the EDGAR Filer Manual, Volume I: “General Information,” Version 42, issued September 27, 2024. The requirements for filing on EDGAR are set forth in the updated EDGAR Filer Manual, Volume II: “EDGAR Filing,” Version 75 (June 2025). All EDGAR material referenced in this paragraph is incorporated by reference into this section with the approval of the Director of the Federal Register under 5 U.S.C. 552(a) and 1 CFR part 51. You must comply with these requirements in order for documents to be timely received and accepted. The EDGAR Filer Manual is available for inspection at the Commission and at the National Archives and Records Administration (NARA). The EDGAR Filer Manual is available for website viewing and printing in the Commission's Public Reference Room, 100 F Street NE, Washington, DC 20549; (202) 551-3900; Library@sec.gov, on official business days between the hours of 10 a.m. and 3 p.m. Operating conditions may limit access to the Commission's Public Reference Room. The EDGAR Filer Manual may also be obtained from https://www.sec.gov/edgar/filerinformation/current-edgar-filer-manual. For information on the availability of the EDGAR Filer Manual at NARA, visit www.archives.gov/federal-register/cfr/ibr-locations or email fr.inspection@nara.gov.

3. Effective September 15, 2025, § 232.301 is further revised to read as follows:

§ 232.301 EDGAR Filer Manual.

Filers must prepare electronic filings in the manner prescribed by the EDGAR Filer Manual, promulgated by the Commission, which sets forth the technical formatting requirements for electronic submissions. The requirements for becoming an EDGAR Filer and updating company data are set forth in the EDGAR Filer Manual, Volume I: “General Information,” Version 42, issued September 27, 2024. The requirements for filing on EDGAR are set forth in the updated EDGAR Filer Manual, Volume II: “EDGAR Filing,” Version 76 (effective September 15, 2025). All EDGAR material referenced in this paragraph is incorporated by reference into this section with the approval of the Director of the Federal Register under 5 U.S.C. 552(a) and 1 CFR part 51. You must comply with these requirements in order for documents to be timely received and accepted. The EDGAR Filer Manual is available for inspection at the Commission and at the National Archives and Records Administration (NARA). The EDGAR Filer Manual is available for website viewing and printing in the Commission's Public Reference Room, 100 F Street NE, Washington, DC 20549; (202) 551-3900; Library@sec.gov, on official business days between the hours of 10 a.m. and 3 p.m. Operating conditions may limit access to the Commission's Public Reference Room. The EDGAR Filer Manual may also be obtained from https://www.sec.gov/edgar/filerinformation/current-edgar-filer-manual. For information on the availability of the EDGAR Filer Manual at NARA, visit www.archives.gov/federal-register/cfr/ibr-locations or email fr.inspection@nara.gov.

By the Commission.
Dated: June 16, 2025
Vanessa A. Countryman,
Secretary.

[FR Doc. 2025-12286 Filed 6-30-25; 8:45 am]

BILLING CODE 8011-01-P